DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2007, there were five applications approved. This notice also includes information on three applications, approved in February 2007, inadvertently left off the February 2007 notice. Additionally, 13 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: New Orleans Aviation Board, New Orleans, Louisiana.

Application Number: 06-08-C-00-MSY.

Application Type: Impose and use a PFC.

PFC Level: $4.50.

Total PFC Revenue Approved in this Decision: $1,023,858.

Earliest Charge Effective Date: July 1, 2018.

Estimated Charge Expiration Date: July 1, 2019.

Class of Air Carriers Not Required to Collect PFC's: Part 135 on demand/air taxi operators filing FAA Form 1800-31.

Determination: Approved. Based on information contained in the public agency's application, the FAA has determined that the approved class accounts for less than 1 percent of the total annual enplanements at Louis Armstrong New Orleans International Airport.

Brief Description of Project Approved for Collection and Use at a $4.50 PFC Level: Acquire 3,000-gallon aircraft rescue and firefighting vehicle.

Brief Description of Project Approved for Collection and Use at a $3.00 PFC Level: Noise level mapping study.

Decision Date: February 21, 2007.

FOR FURTHER INFORMATION CONTACT: Andy Velayos, Louisiana/New Mexico Airports Development Office, (817) 222-5647.

Public Agency: City of Harlingen, Texas.

Application Number: 07-03-C-00-HRL.

Application Type: Impose and use a PFC.

PFC Level: $4.50.

Total PFC Revenue Approved in this Decision: $7,885,824.

Earliest Charge Effective Date: December 1. 2007.

Estimated Charge Expiration Date: July 1, 2011.

Class of Air Carriers Not Required to Collect PFC's: Part 135 air taxi/commercial operators filling FAA Form 1800-31.

Determination: Approved. Based on information contained in the public agency's application, the FAA has determined that the approved class accounts for less than 1 percent of the total annual enplanements at Valley International Airport.

Brief Description of Projects Approved for Collection and Use:

Acquire communications equipment.

Upgrade runway hold position markings.

Replace and improve access control and paging system.

Replace and improve flight information display system.

Reconstruct and overlay taxiway Charlie (west).

Acquire aircraft rescue and firefighting equipment.

Update airport layout plan.

Install energy management system.

Update part 150 and master plan.

Airfield drainage study and improvements.

Upgrade perimeter fencing.

Airfield electrical improvements.

Purchase pavement management system.

Refurbish aircraft rescue and firefighting vehicle.

Reconstruct and upgrade aprons.

Runway improvements.

Taxiway improvements.

Terminal baggage handling improvement.

PFC administrative cost.

Brief Description of Disapproved Project: Acquire land for runway 17R/35L safety area.

Determination: This land acquisition was for a proposed runway extension. The public agency did not provide any information to justify the proposed runway extension. Therefore, the FAA determined that the land acquisition project was not justified.

Decision Date: February 22, 2007.

FOR FURTHER INFORMATION CONTACT: Rodney Clark, Texas Airports Development Office, (817) 222-5659.

Public Agency: City of Midland, Texas.

Application Number: 07-05-C-00-MAF.

Application Type: Impose and use a PFC.

PFC Level: $4.50

Total PFC Revenue Approved in this Decision: $1,553.549.

Earliest Charge Effective Date: November 1, 2014.

Estimated Charge Expiration Date: August 1, 2015.

Classes of Air Carriers Not Required to Collect PFC's: (1) Part 135 air taxi/commercial operators filing FAA Form 1800-31; (2) commuters and small certificated air carriers filing Department of Transportation Form T-100 for non-scheduled enplanements; and (3) large certificated route air carriers filing Department of Transportation Form T-100 for non-scheduled enplanements.

Determination: Approved. Based on information contained in the public agency's application, the FAA has determined that each approved class accounts for less than 1 percent of the total annual enplanements at Midland International Airport.

Brief Description of Projects Approved for Collection and Use:

PFC administration fee.

Runway 10/28 shoulders.

Replace flight information and baggage information system.

Acquire airfield sweeper and snow removal vehicles.

Update airport master drainage plan.

Rehabilitate runway 16R/34L.

Rehabilitate runway 10/28.

Acquire airfield pavement sweeper and snow removal vehicle.

Rehabilitate airfield lighting and sinage.

Rehabilitate taxiways.

Decision Date: February 23, 2007.

FOR FURTHER INFORMATION CONTACT: Marcelino Sanchez, Texas Airports Development Office, (817) 222-5652.

Public Agency: Sate of Connecticut Department of Transportation Bureau of Aviation and Ports, Windsor Locks, Connecticut.

Application Number: 07-16-C-00-BDL.

Application Type: Impose and use a PFC.

PFC Level: $4.50

Total PFC Revenue Approved in this Decision: $2,374,574.

Earliest Charge Effective Date: September 1, 2016.

Estimated Charge Expiration Date: November 1, 2016.

Classes of Air Carriers Not Required to Collect PFC's: On-demand air taxi commercial operators.

Determination: Approved. Based on information contained in the public agency's application, the FAA has determined that the approved class accounts for less than 1 percent of the total annual enplanements at Bradley International Airport.

Brief Description of Projects Approved for Collection and Use at a $4.50 PFC Level:

Reconstruct taxiways E and T, relocate runway 1 threshold.

Reconstruct, mark, and light taxiways L, T and M.

Decision Date: March 7, 2007.

FOR FURTHER INFORMATON CONTACT: Priscilla Scott, New England Region Airports Division, (781) 238-7614.

Public Agency: Los Angeles World Airports, Los Angeles, California.

Application Number: 07-04-C-00-ONT.

Application Type: Impose and use a PFC.

PFC Level: $4.50.

Total PFC Revenue Approved in this Decision: $96,648,998.

Earliest Charge Effective Date: December 1, 2007.

Estimated Charge Expiration Date: June 1, 2013.

Class of Air Carriers Not Required to Collect PFC's: Air taxi/commercial operators filing FAA Form 1800-31.

Determination: Approved. Based on information contained in the public agency's application, the FAA has determined that the approved class accounts for less than 1 percent of the total annual enplanements at Ontario International Airport.

Brief Description of Projects Approved for Collection and Use at a $4.50 PFC Level:

In-line baggage screening.

Airfield perimeter security fencing enhancements—phase 2.

Runway 8L/26R reconstruction.

Implementation of information technology security master plan.

Aircraft rescue and firefighting vehicles.

Brief Description of Project Approved for Collection and Use at a $3.00 PFC Level: Master plan.

Decision Date: March 22, 2007.

FOR FURTHER INFORMATION CONTACT: Ruben Cabalbag, Los Angeles Airports District Office, (310) 725-3630.

Public Agency: SWF Airport Acquisition, Inc., New Windsor, New York.

Application Number: 07-03-C-00-SWF.

Application Type: Impose and use a PFC.

PFC Level: $4.50.

Total PFC Revenue Approved in this Decision: $254,187.

Earliest Charge Effective Date: May 1, 2007.

Estimated Charge Expiration Date: September 1, 2007.

Class of Air Carriers Not Required to Collect PFC's: Nonscheduled/on-demand air carriers filing FAA Form 1800-31.

Determination: Approved. Based on information contained in the public agency's application, the FAA has determined that the approved class amounts for less than 1 percent of the total annual enplanements at Stewart International Airport.

Brief Description of Project Approved for Collection and Use: Northwest cargo ramp expansion.

Decision Date: March 22, 2007.

FOR FURTHER INFORMATON CONTACT: Dan Vornea, New York Airports District Office, (516) 227-3812.

Public Agency: City of La Crosse, Wisconsin.

Application Number: 07-08-C-00-LSE.

Application Type: Impose and use a PFC.

PFC Level: $4.50.

Total PFC Revenue Approved in this Decision: $3,713,665.

Earliest Charge Effective Date: June 1, 2007.

Estimated Charge Expiration Date: February 1, 2017.

Class of Air Carriers Not Required to Collect PFC's: None.

Brief Description of Projects Approved for Collection and Use:

Land use compatability plan.

Reconstruct taxiway A—phase 1.

Reconstruct taxiway A—phase 2.

Security enhancements.

Snow removal equipment.

Non revenue producing parking lot.

Access road reconstruction.

Reconstruct perimeter road.

Taxiway F extension.

PFC administration fees.

Decision Date: March 27, 2007.

FOR FURTHER INFORMATION CONTACT: Nancy Nistler, Minneapolis Airports District Office, (612) 713-4353.

Public Agency: New Hanower County Airport Authority, Wilmington, North Carolina.

Application Number: 07-05-C-00-ILM.

Application Type: Impose and use a PFC.

PFC Level: $4.50.

Total PFC Revenue Approved in this Decision: $6,023,375.

Earliest Charge Effective Date: November 1, 2014.

Estimated Charge Expiration Date: October 1, 2019.

Class of Air Carriers Not Required to Collect PFC's: Air taxi/commercial operators filing FAA Form 1800-31.

Determination: Approved. Based on information contained in the public agency's application, the FAA has determined that the approved class accounts for less than 1 percent of the total annual enplanements at Wilmington International Airport.

Brief Description of Projects Approved for Collection and Use: Instrument landing system—runway 6/24. Construct international arrivals building. PCF development costs.

Decision Date: March 28, 2007.

FOR FURTHER INFORMATION CONTACT: John Marshall, Atlanta Airports District Office, (404) 305-7153.

Amendments to PFC Approvals
Amendment No. city, state | Amendment approved date | Original approved net PFC revenue | Amended approved net PFC revenue | Original estimated charge exp. date | Amended estimated charge exp. date
95-01-C-02-SWF, New Windsor, NY | 01/12/07 | $4,294,779 | $3,146,254 | 10/01/99 | 01/01/00
01-04-C-01-MAF, Midland, TX | 02/23/07 | 1,493,866 | 1,622,298 | 07/01/17 | 11/01/14
02-09-C-04-MCO, Orlando, FL | 02/27/07 | 163,040,998 | 163,040,998 | 04/01/16 | 10/01/12
05-10-C-01-MCO, Orlando, FL | 02/27/07 | 232,818,000 | 546,076,706 | 11/01/19 | 11/01/18
93-01-C-04-MSN, Madison, WI | 03/12/07 | 4,736,271 | 4,571,966 | 05/01/98 | 05/01/98
96-02-U-02-MSN, Madison, WI | 03/12/07 | NA | NA | 05/01/98 | 05/01/98
00-02-C-04-SWF, New Windsor, NY | 03/22/07 | 6,733,600 | 5,681,645 | 11/01/05 | 11/01/05
93-01-C-04-LBB, Lubbock, TX | 03/23/07 | 11,162,948 | 10,741,523 | 04/01/00 | 04/01/00
94-02-U-02-LBB, Lubbock, TX | 03/23/07 | NA | NA | 04/01/00 | 04/01/00
02-05-C-02-MSY, New Orleans, LA | 03/27/07 | 135,190,660 | 133,503,363 | 07/01/03 | 08/01/03
02-06-C-04-MSY, New Orleans, LA | 03/27/07 | 253,448,798 | 252,936,769 | 10/01/15 | 01/01/16
04-07-C-02-MSY, New Orleans, LA | 03/27/07 | 57,859,232 | 54,339,312 | 01/01/18 | 07/01/18
03-04-C-02-ILM, Wilmington, NC | 03/28/07 | 11,585,647 | 9,551,204 | 05/01/17 | 11/01/14

Issued in Washington, DC, on April 16, 2007.
Joe Hebert,
Manager, Financial Analysis and Passenger Facility Charge Branch.

[FR Doc. 07-2078 Filed 4-26-07; 8:45 am]

BILLING CODE 4910-13-M